Title 3—

The President

Proclamation 9999 of March 24, 2020

Greek Independence Day: A National Day of Celebration of Greek and American Democracy, 2020

By the President of the United States of America

A Proclamation

Our great American experiment was inspired by the ideas about liberty, self-government, and the rule of law that traced their roots to ancient Greece. On Greek Independence Day, we commemorate the rich history shared between the United States and Greece, which is fortified by our love of freedom and commitment to democratic institutions. We join the Greek people in celebrating another year of independence and unity.

The great thinkers of ancient Greece stoked the American quest for freedom and a republic founded on the fundamental truth that people have rights that cannot be denied. Decades later, the same values that catalyzed our Revolution inspired the people of Greece to seek their own freedom and independence. Recognizing the commonality between the Greeks' fight to establish a representative government and their own, many Americans supported Greek independence, forging an unbreakable bond between our two countries.

Today, this same conviction for a freer and more prosperous world bolsters the alliance between the United States and Greece. In October 2019, my Administration worked with Greek officials to strengthen and expand our defense and security partnership by updating the United States-Greece Mutual Defense Cooperation Agreement Annex. This agreement paves the way for closer collaboration on national security matters between our two countries for decades to come. We are also grateful for the commitment of Greece, a strong NATO Ally, to our naval presence at Souda Bay on the island of Crete. Through such endeavors, the partnership between our countries advances our strategic national interests in stable and peaceful Eastern Mediterranean, Black Sea, and Western Balkans regions.

As noted at the Second United States-Greece Strategic Dialogue last year, an estimated 3 million Americans claim Greek descent. We therefore reaffirm our commitment to building firm institutional foundations that foster deep appreciation of our common ties. To that end, we are proud to have established the Future Leaders Exchange Program, which is further developing educational, cultural, and scientific cooperation between our two countries. Throughout our histories, both of our nations have prioritized interactions between our peoples, which are at the core of our cherished relationship and alliance.

The United States and Greece continue to share a long-held belief that political power belongs in the hands of the people. On this 199th anniversary of Greek independence, we confirm the pillars of governance, culture, and patriotism that have forged and continue to sustain the faithful bond our two nations enjoy.

NOW, THEREFORE, I, DONALD J. TRUMP, President of the United States of America, by virtue of the authority vested in me by the Constitution and the laws of the United States, do hereby proclaim March 25, 2020, as Greek Independence Day: A National Day of Celebration of Greek and American Democracy. I call upon the people of the United States to observe this day with appropriate ceremonies and activities.

IN WITNESS WHEREOF, I have hereunto set my hand this twenty-fourth day of March, in the year of our Lord two thousand twenty, and of the Independence of the United States of America the two hundred and forty-fourth.

[FR Doc. 2020-06627

Filed 3-26-20; 11:15 am]

Billing code 3295-F0-P